DEPARTMENT OF HOMELAND SECURITY

U.S. Citizenship and Immigration Services

[CIS No. 2491-10; DHS Docket No. USCIS-2010-0002]

RIN 1615-ZA96

Extension of the Initial Registration Period for Haitians Under the Temporary Protected Status Program

AGENCY: U.S. Citizenship and Immigration Services, DHS.

ACTION: Notice.

SUMMARY: On January 21, 2010, the Secretary of the Department of Homeland Security designated Haiti under the Temporary Protected Status (TPS) program for a period of 18 months. DHS established a 180-day registration period (from January 21, 2010, through July 20, 2010). This notice extends the registration period through January 18, 2011. This extension is necessary to provide applicants more time to register for TPS.

DATES: DHS designated Haiti for TPS on January 21, 2010. The registration period that was to expire on July 20, 2010, will be extended for 180 days, with a new filing deadline of January 18, 2011.

FURTHER INFORMATION: • For further information on TPS, including guidance on the application process and additional information on eligibility, please visit the USCIS Web Site at http://www.uscis.gov. Select “Temporary Protected Status” from the homepage under “Humanitarian” benefits. You can find detailed information about Haitian TPS registration on our Web Site at the Haitian Questions & Answers Section under TPS.

• You can also contact the TPS Operations Program Manager, Status and Family Branch, Service Center Operations Directorate, U.S. Citizenship and Immigration Services, Department of Homeland Security, 20 Massachusetts Avenue, NW., Washington, DC 20529-2060, telephone (202) 272-1533. This is not a toll-free call. Note: The phone number provided here is solely for questions regarding this TPS notice. It is not for individual case status inquiries. Applicants seeking information about the status of their individual cases can check Case Status Online available at the USCIS Web Site (http://www.uscis.gov), or call the USCIS National Customer Service Center at 1-800-375-5283 (TTY 1-800-767-1833).

SUPPLEMENTARY INFORMATION:

When did the Secretary designate Haiti under the TPS program?

On January 21, 2010, the Secretary of Homeland Security (Secretary) designated Haiti under the Temporary Protected Status (TPS) program for a period of 18 months. See 75 FR 3476 (January 21, 2010).

What is the Secretary's authority to extend the registration period?

The Immigration and Nationality Act (INA) authorizes the Secretary to provide TPS applicants with a registration period of “not less than 180 days” and requires applicants to register to the extent and in a manner which the Secretary establishes. See INA sec. 244(c)(1)(A)(iv), 8 U.S.C. 1254a(c)(1)(A)(iv). DHS initially set the registration period for Haiti for 180 days, from January 21, 2010, through July 20, 2010. The Secretary is extending the registration period for an additional 180 days, through January 18, 2011.

Why is the Secretary extending the registration period?

The Secretary is extending the registration period to provide additional time to register for TPS. The Secretary has been advised that eligible individuals have not yet applied for several reasons; among them is that, due to the devastation in Haiti, Haitian nationals are having difficulty obtaining documents that establish their nationality and identity and are relevant to the TPS application process. It also takes time for many eligible individuals to gather together the funds needed to apply for TPS or, in the alternative, to learn fully the guidelines and procedures for fee waivers. This extended registration period will allow further time needed for eligible individuals to prepare their applications in light of these circumstances.

What documents do I need to submit with my TPS application?

All TPS applicants must file Form I-821, Application for Temporary Protected Status, and Form I-765, Application for Employment Authorization, regardless of whether they are seeking employment authorization. All TPS applicants must also submit evidence of their Haitian nationality. Applicants who have no nationality, but whose last habitual residence was in Haiti, must submit evidence of such residence in Haiti. Lastly, all TPS applicants must submit evidence of their continuous residence in the United States since January 12, 2010, and continuous physical presence in the United States since January 21, 2010. A discussion of the required fees, supporting documents, and qualifying dates, is found in the Federal Register Notice announcing the designation of Haiti for TPS. See 75 FR 3476 (January 21, 2010).

When is my TPS application due?

All applications must be received by USCIS on or before January 18, 2011. To be considered properly filed, your application, along with the appropriate fee or a fee waiver request, must be received at the address listed in the Federal Register Notice announcing the designation of Haiti for TPS. See 75 FR 3476 (January 21, 2010).

What happens to an application that is submitted without the proper fee or the fee waiver request is denied?

Applications submitted without the proper fee will be rejected and returned to the applicants. USCIS will also reject and return any application where it has denied a fee waiver request. The fee waiver denial notice will contain specific instructions about resubmitting your application.

If my TPS application was rejected because my fee waiver request was denied, how long do I have to re-apply?

If USCIS rejected your TPS application because your fee waiver request was denied (including those instructed to re-file within 45 days), you may re-file your application with the required fees or a new fee waiver request at any time so long as it is received no later than the January 18, 2011 deadline.

In addition, if your TPS application package is received on or before January 18, 2011, and your fee waiver request is denied on or after December 3, 2010, you will be given 45 days from the date of the denial to re-file your application package with the required fee or a new fee waiver request. In that case, your application package will be considered timely filed provided the application package is received within 45 days of the date of the fee waiver denial notice. If your resubmitted TPS application package is received after January 18, 2011, and contains a new fee waiver request that is denied, your application will be rejected and you will be ineligible to register for TPS due to the expiration of the registration period.

The 45-day accommodation ensures that applicants who request a fee waiver during the period immediately before the application period closes, but whose fee waiver requests are denied, will have opportunity to amend their fee waiver requests or submit the required fees. Additionally, the 45-day accommodation is consistent with the applicable regulations, which state that a TPS application shall be filed during the registration period established by the Secretary of Homeland Security. See 8 CFR 244.7(b). The TPS registration period is prescribed by notice in the Federal Register, and this notice serves to extend the registration period.

If my TPS application was rejected due to incomplete information, can I re-apply during the registration extension?

Yes. If your application was rejected due to incomplete information, you may re-file your completed application, addressing all of the deficiencies cited in the rejection notice, and include the proper fees or fee waiver request by January 18, 2011. Please note that a rejected application is different from a TPS application that has been denied on the merits where USCIS has informed the applicant that he or she is not eligible for TPS. If your TPS application was denied, you may seek review of that decision as described in the USCIS denial notice.

Janet Napolitano,
Secretary.

[FR Doc. 2010-17116 Filed 7-12-10; 8:45 am]

BILLING CODE 9111-97-P